DEPARTMENT OF THE TREASURY

Correction to Submission for OMB Review

October 18, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Financial Crimes Enforcement Network (FinCEN)

OMB Number: 1506-0004.

Type of Review: Revision.

Title: Currency Transaction Reports.

Form: FinCEN 104.

Correction: In the Federal Register Notice published October 18, 2006, page 61537, make the following correction:

The burden hours “7,499,995 hours” should read “6,249,995”.

Michael A. Robinson.
Treasury PRA Clearance Officer.

[FR Doc. E6-17789 Filed 10-23-06; 8:45 am]

BILLING CODE 4810-02-P